DEPARTMENT OF TRANSPORTATION

Coast Guard

[USCG-2000-7206]

Voluntary Guidelines on Recreational Activities To Control the Spread of Zebra Mussels and Other Aquatic Nuisance Species

AGENCY: Coast Guard, DOT.

ACTION: Notice of issuance.

SUMMARY: The Coast Guard makes available this final version of the voluntary guidelines for persons engaged in water-related recreational activities (e.g., boating and fishing) to help control the spread of aquatic nuisance species (ANS). The Coast Guard must issue these guidelines per the recommendations prepared by the Aquatic Nuisance Species Task Force.

DATES: These voluntary guidelines are effective January 29, 2001.

ADDRESSES: The Docket Management Facility maintains the public docket for this notice. Comments and material received from the public are a part of this docket and are available for inspection or copying at room PL-401, on the Plaza level of the Nassif Building, 400 Seventh Street SW., Washington, DC, between 9 a.m. and 5 p.m., Monday through Friday, except Federal holidays. You may also find this docket on the Internet at http://dms.dot.gov.

FOR FURTHER INFORMATION CONTACT: For questions on this notice or associated guidelines, call Lieutenant junior grade JoAnne Hanson, Project Manager, Office of Operating and Environmental Standards (G-MSO), Coast Guard, telephone, 202-267-2079. For questions on viewing materials in the docket, call Dorothy Beard, Chief, Dockets, Department of Transportation, telephone 202-366-9329.

SUPPLEMENTARY INFORMATION:

What Is the Regulatory History of the Voluntary Guidelines?

On April 13, 2000, we published a notice and request for comments entitled “Voluntary Guidelines on Recreational Activities to Control the Spread of Zebra Mussels and Other Aquatic Nuisance Species” in the Federal Register (65 FR 19953). We received four comment letters. On May 4, 2000, we published a correction notice in the Federal Register (65 FR 25980) citing minor editorial corrections to the notice and request for comments. No public hearing was requested and none was held.

What Comments Did the Coast Guard Receive in Response to Its Notice and Request for Comments and What Changes, if Any, Were Made to the Voluntary Guidelines as a Result of These Comments?

We received four comment letters in response to the notice and request for comments. Each of the four comment letters expresses support for the proposed guidelines, including the distribution of educational and outreach materials.

One comment proposes that the Coast Guard work with associations, educational institutions, or agencies that conduct education and outreach on recreational activities as part of their overall mission.

As a member of the Aquatic Nuisance Species Task Force (ANSTF), the Coast Guard is represented on the Task Force's Communication, Education and Outreach Committee. This committee was established to provide the Task Force with a way to support the congressional mandates through outreach campaigns. The committee is currently working on creating a National Aquatic Nuisance Species Campaign and these voluntary guidelines will play an important role in that effort. The Coast Guard will also rely on the Coast Guard Auxiliary to promote these guidelines to the boating public through their boating safety courses.

One comment suggests clarifying the term “natural resource managers and others” used in the guidelines under the heading “What activities do the voluntary guidelines address and what are the recommended procedures?”

The Coast Guard intends for the various county, regional, and State agencies to use the voluntary guidelines as basic guidelines to incorporate into their own aquatic nuisance species materials, which they can distribute in their areas, including specific points of contact.

One comment suggests that the Coast Guard purchase public service television spots to televise the educational videos. The comment also suggests that we make the guidelines available on the Coast Guard's web page.

As noted previously, as a member of the ANSTF's Communication, Education, and Outreach Committee, the Coast Guard is involved in the development of a national campaign to highlight these voluntary guidelines. A variety of outreach materials are being developed to publicize the guidelines. We expect televised publicity to be considered as well. The guidelines are currently available on the Coast Guard's web page.

One comment suggests using a species other than the spiny water flea to illustrate the efficacy of drying because the spiny water flea's resting stage eggs, which it produces seasonally, can tolerate drying indefinitely, although the adult female cannot.

In response to this comment, the ANSTF Recreational Activities Committee (RAC) has recommended that we change the wording at the end of paragraph (e), entitled “Boating,” under the “Pathway-Specific Guidelines” heading to read as follows: “* * * reduce the risk * * * ” instead of “* * * prevent the transport * * *” We have made this wording change.

One comment suggests that, in the first bullet under “Never do the following,” under “Generic Guidelines,” we remove the word “from” and add the words “to or from.” The sentence would then read as follows: “Never transport plants, animals, mud, or water to or from lakes, rivers, wetlands, and coastal waters.” We have revised the wording under the “Generic Guidelines” based on this suggestion.

Why Is the Coast Guard Issuing Voluntary Guidelines?

To comply with the National Invasive Species Act of 1996 (NISA), we are issuing voluntary guidelines for recreational activities to control the spread of zebra mussels and other Aquatic Nuisance Species (ANS). These guidelines will be explained in pamphlets, videos, and other types of outreach materials.

The voluntary guidelines in this notice are based on the ones drafted and recommended by the RAC. The guidelines developed by the Committee are available in the docket and may be accessed on the Internet at http://dms.dot.gov.

What Are Aquatic Nuisance Species (ANS)?

ANS are organisms introduced into non-native habitats and are often freed from the natural predators, parasites, pathogens, and competitors that have kept them in check. Once established, these organisms can displace native species; they can impede municipal, industrial, and private water-intake systems; and they can degrade aquatic ecosystems.

The introduction of most ANS is the work of humans. In some cases, this is intentional, but, in many, it is accidental. In addition to overland transport of boats, which has long been identified as a key dispersal pathway, there are many others. The other human activities that can disperse ANS include angling, scuba diving, and waterfowl hunting.

Establishing these final voluntary guidelines will help to promote good habits that will control the spread of ANS. Surveys have shown that participants in recreational activities will take necessary precautions if they know what to do. Conversely, they will not take precautions unless they know what to do.

What Is the Purpose of the Voluntary Guidelines?

The voluntary guidelines will give the public clear, concise information on how to avoid the transport of ANS. These voluntary guidelines provide specific procedures that individuals engaged in the corresponding recreational activity can follow so they will not accidentally transport ANS.

What Activities Do the Voluntary Guidelines Address and What Are the Recommended Procedures?

These voluntary guidelines address the following water-related recreational activities: Scuba diving; waterfowl hunting; harvesting of bait by recreational anglers; angling; boating; operating seaplanes; and operating personal watercraft. These voluntary guidelines are intended to assist natural resource managers and others involved in educating individuals who participate in these recreational activities about the problems associated with the spread of ANS in the United States.

Voluntary Guidelines for Recreational Activities To Control the Spread of Zebra Mussels and Other Aquatic Nuisance Species

Generic Guidelines

Some guidelines are appropriate for any recreational activity associated with water. The generic preventive-guidelines that follow apply to most recreational activities occurring in marine and inland waters. In addition to these guidelines, States and provinces may include specific laws and guidelines for their areas.

Always do the following:

• Always inspect equipment (in the broadest sense, e.g., boats, planes, trailers, decoy anchors, SCUBA gear, and lures) for visible plants and animals before transporting.

• Always remove visible plants and animals from equipment (expel plants, animals, and water from internal parts).

• Always drain water from equipment before transporting.

• Always clean equipment that has been in infested waters before placing it in other waters (see the “Pathway-specific guidelines” section for specific methods).

• Always report questionable species to your resource agency for identification. Information is available from many sources about identification of ANS; however, specimens are needed to confirm sightings. Many jurisdictions have different rules regarding possession and transport. Always ask your local natural resources management agency for instructions.

Avoid the following:

• Transporting plants, animals, mud, or water to or from lakes, rivers, wetlands, and coastal waters.

• Releasing animals or plants (e.g., aquarium species, bait, or water garden plants) into the wild unless you release them into the same waterbody or location where the species came from.

Pathway-Specific Guidelines

These guidelines cover recreational activities that are potential pathways for transferring ANS. Individuals engaged in these activities should follow these guidelines to help prevent the spread of ANS. You should note that States and provinces may add to these voluntary guidelines their own related laws and guidelines, if any, regarding transport or possession of ANS.

(a) Scuba Diving

You can unintentionally transport ANS, such as the zebra mussel, spiny water flea, and Eurasian water milfoil, from one body of water to another on your scuba-diving gear. You should take precautions to reduce the risk of spreading these unwanted species, especially when diving in different waters on the same or consecutive days.

Many scuba divers believe that zebra mussels have benefited the sport by improving visibility in the waters they inhabit. They soon learn, however, that geological formations and shipwrecks that once attracted divers are encrusted with layers of zebra mussels, which obscure these objects. The harm to the environment, the fisheries, and industrial, municipal, and private water intakes far outweighs any benefit.

Any objects removed from the water have the potential of introducing ANS to new waters. By adhering to the guidelines that follow, you can help prevent the spread of ANS when you scuba dive, and you can help protect the environment from the harmful impacts of these species. Guidelines:

• Inspect your equipment.

• Remove any plants, mud, or animals that are visible before leaving all waters.

• Drain water from buoyancy compensator (bc), regulator, tank boot, and any other equipment that may hold water before leaving all waters.

• ANS can survive for a period of time on wet scuba gear or in water. Therefore, do at least one of the following:

(1) Dry your suit and all equipment completely before diving in different waters, and rinse the inside of your bc with hot or salted water as described in items (2) and (3), which immediately follow.

(2) Submerge and wash your suit and equipment, and rinse the inside of your bc with hot water (at least 40 °C or 104 °F).

(3) Submerge and wash your suit and equipment in a tub or tote containing salted water (½ cup of salt dissolved in one gallon of water); rinse the inside of your bc with the salted solution; and rinse your equipment with clean water.

(b) Waterfowl Hunting

Nonindigenous ANS such as the zebra mussel, purple loosestrife, and Eurasian water milfoil can damage habitat for fish, waterfowl, and other wildlife. Waterfowl hunters should be aware that it is possible to inadvertently spread ANS from one lake or wetland to another via boats, motors, trailers, and decoys. Waterfowlers should assume that any fragments of aquatic plants could be potentially harmful and should not be transported from one wetland, lake, river, or coastal area to another. In addition, zebra mussels and their microscopic larvae can attach to aquatic plants. If fragments of these plants are transported, they can inadvertently transport zebra mussels to other waters. By following the guidelines on recreational activities, you can help prevent the spread of ANS via waterfowl hunting. Guidelines:

Before the hunting season—

• Switch to elliptical, bulb-shaped, or strap anchors on decoys, which avoid collecting submerged and floating aquatic plants; or

• If boats are moored in waters infested with zebra mussels, use the following tips to remove or kill zebra mussels or other aquatic animals and plants that might be in or on your boat:

(1) Remove any visible zebra mussels from the boat and wash and rinse the boat with hot water; or

(2) Spray the boat with high-pressure water; or

(3) Dry all parts of the boat for at least 5 days before placing it into another waterbody.

After hunting—

• Inspect waders or hip boots; remove aquatic plants; and, where possible, rinse mud from them before leaving the waters;

• Remove aquatic plants, animals, and mud that are attached to decoy lines or anchors; and

• Drain the water from boats before transporting to other waters.

Between hunting trips—

• Inspect equipment for any aquatic plants, animals, and mud not removed after hunting; remove and dispose of them on land away from the waters; and

• Follow the guidelines for boaters in paragraph (e).

(c) Recreational Anglers' Harvest of Live Bait (Non-Commercial Harvest)

The guidelines that follow apply to the non-commercial harvesting of live bait by recreational anglers.

Nonindigenous species can lodge in nets and other equipment used to harvest baitfish and can be unintentionally transported into non-infested waters. Some species can survive up to 2 weeks out of water and remain viable when dislodged into another waterbody. Non-target ANS species like ruffe and round goby, as well as fragments of aquatic nuisance plants, such as hydrilla or Eurasian water milfoil, can be harvested along with target baitfish species. If such species are transferred to non-infested waters, they can have harmful effects on native fish populations. To help prevent the transfer of these species, you should conduct the procedures that follow during or after the harvest of live bait for personal use.

Guidelines:

• Inspect harvested live bait for non-target species, and remove them where harvested.

• Always dispose of unwanted live bait on land (away from contact with waters) before leaving the waters. Never release live bait into another body of water or move aquatic plants or animals from one waterbody into a different waterbody.

• Remove all aquatic plants from boats, trailers, nets, or other equipment while on shore before leaving the water-body access.

• Before reusing nets, roll out, hand clean, and dry them.

• Drain water from boats (cooling stem of motors) and equipment (bilge pump, tubs, live wells, etc.) before leaving any waterbody access.

• Never use water from infested waters to transport live bait to other waters. In many States and provinces, live bait harvested from designated infested waters is illegal. Check with your local State natural resource agency before you collect live bait.

• In areas where harvest of bait from infested waters is legal, avoid using the same equipment in infested and non-infested waters. Some aquatic nuisance species once removed from infested waters can survive up to two weeks in a moist environment. By drying surfaces where they can be lodged or attached, you can substantially reduce the risk of transporting them in boats and equipment.

• Rinse all equipment, including boats and trailers, with tap water and dry them for as long as possible, but for at least 5 days before re-use, especially in other waters. Before re-use, you should roll out nets, hand clean them, and dry them for a minimum of 10 days, or freeze them for 2 days.

• The following applies to disinfection, specific to zebra mussels, of equipment that is difficult to treat with drying and washing methods (use these methods away from the waterbody):

(1) As an added equipment treatment, a dip of 100 percent vinegar for 20 minutes can kill small zebra mussels and may be effective against other ANS.

(2) Treatment with other chemicals such as a 1-percent solution of table salt for 24 hours can be as effective as a dip of vinegar.

The recipes provided in the following table are for a 1-percent solution of table salt (sodium chloride) treatment in water.¹

¹ Adapted from “Fisheries Scientist's Pocket Reference” booklet by Iowa Chapter of the American Fisheries Society, 1991, by Doug Jensen, University of Minnesota Sea Grant Program.

Gallons of water | Cups of salt *
5 | ⅔
10 | 1¼
25 | 3
50 | 6¼
100 | 12⅔
* Based on 312 g per cup.

(d) Angling

The introduction of ANS can cause significant changes in freshwater and marine ecosystems. Populations of prey and game fish can be significantly harmed by the presence of species such as the sea lamprey, Asian swamp eel, Chinese carp, and zebra mussel. Some aquatic nuisance plants (e.g., hydrilla, Eurasian water milfoil, and water hyacinth) may limit the viable fishing area of inland waters. You can help prevent the transfer of ANS by following the guidelines in this section whenever you engage in angling.

Guidelines

• Dispose of unwanted live bait on land before leaving the waterbody. Never release live bait into a different body of water or move aquatic plants or animals from one waterbody to another.

• Wash and dry your boat, tackle, downriggers, float tube, waders, and other equipment to remove or kill harmful species that were not visible at the boat launch.

• Inspect all fish caught using seines, dipnets, or other types of netting; remove and properly discard all non-target species.

(e) Boating

ANS, such as the zebra mussel, spiny water flea, and Eurasian water milfoil, can be unintentionally transported through water-related recreation activities because some ANS can survive many days out of water. If you are a water recreationalist (watercraft users), there are some important actions you can take to reduce the risk of transport of ANS from one waterbody to another.

Guidelines

• Before leaving all waters, inspect your boat (sailboats check centerboard and bilgeboard wells, and keel boats check the rudder-post area), trailer (check axles, runners, lights, and rollers), and other boating equipment (check anchors, water-skis, or other tow lines), and remove any plants, animals, or mud that are visible (see diagram 1).

• Drain water from the motor, livewell, bilge, and transom wells while on land and before leaving all waters.

• Wash and dry your boat, tackle, fishing lines, downriggers, trailer, and other boating equipment to kill harmful species that were not visible at the boat launch. You can do this on your way home or once you arrive home.

• Before you transport to other waters, do one of the following:

(1) Rinse your boat and boating equipment with hot (greater than 40 °C or 104 °F) tap water.

(2) Spray your boat and trailer with high-pressure water.

(3) Dry your boat and equipment for at least 5 days.

For your information, the U.S. Fish and Wildlife Service, in conjunction with Canadian officials and other partners, are implementing the 100th Meridian Initiative, which focuses on preventing the westward spread of zebra mussels and other ANS by boat inspections and by dissemination of posters, brochures, and other information about ANS. There are many other State and Federal initiatives focusing on controlling the spread of ANS. Consult your local Fish and Wildlife Service facility or other appropriate State or Federal natural resource management agency for additional information.

(f) Seaplanes

Many ANS, such as the zebra mussel and Eurasian water milfoil, can be unintentionally transported from one waterbody to another on the floats of seaplanes. Therefore, it is important to clean the aircraft to remove ANS before traveling, rather than after landing at new locations. In addition, it is important for you to incorporate the procedures listed here into the operation of your seaplane. However, plane safety is the first priority when considering and following these guidelines.

Guidelines:

Before entering the aircraft—

• Inspect and remove aquatic plants from the floats, wires or cables, and water rudders;

• Pump floats, which may contain infested water; and

• If moored in waters infested by zebra mussels for extended periods, check the transom, chine, bottom, wheel wells, and step area of floats (see diagram 2). If zebra mussels are present on the floats, you can use (any) one of the following methods to remove or kill them:

(1) Wash the floats with hot water.

(2) Spray the floats with high-pressure water.

(3) Dry all parts of the floats for at least 5 days. Before takeoff—

• Avoid taxiing through heavy surface growths of aquatic plants before takeoff;

• Raise and lower water rudders several times to clear off plants. This will also minimize cable stretch and improve the effectiveness of the rudders for steering.

After takeoff—

• Raise and lower water rudders several times to free fragments of aquatic plants while over the waters you are leaving or while over land; and

• If aquatic plants remain visible on floats or water rudders, return to the lake and remove the plants.

Storage or mooring—

• Remove aircraft from the water, as is often done at seaplane bases, and allow all parts of the floats to dry. A few days of hot, summer temperatures will kill adult zebra mussels (longer drying times of up to 10 days are required to kill adult mussels during cool, humid weather); and *

• Aircraft moored for extended periods in zebra-mussel-infested waters may have zebra mussels attached to the floats and should be cleaned regularly. In remote locations, where zebra mussels are present, but where there are no provisions for drying, spraying, or treating the floats with hot water, the best option available for preventing the spread of the mussels is to hand-clean the submerged portions of floats with a scrub brush and to physically remove adult mussels. (Aircraft moored for extended periods in zebra-mussel-infested waters may have zebra mussels attached to the floats and should be cleaned regularly.)

(g) Personal Watercraft

Personal watercraft that have jet-drive systems require some extra precautions to avoid ANS. A pump pulls water in through an opening under the craft, and the impeller (an internal propeller) forces water out, moving the craft forward. ANS can easily get lodged in the jet-drive system and get transported if the watercraft is taken from one waterbody to another. A small piece of Eurasian water milfoil, or other ANS, caught in the impellers can infest a new lake or river. Zebra mussels can survive in excess water in the jet drive and spread to other waters. By applying the following guidelines, you can help prevent the transfer of ANS via your personal watercraft.

Guidelines:

In the water—

• Avoid running the engine through aquatic plants near the boat access; and

• Push or winch the watercraft up on the trailer without running the engine.

On the trailer—

• After you pull the watercraft from the water, start the engine for 5 to 10 seconds to blow out any excess water and vegetation. (The dark, damp, enclosed area of the impeller provides an ideal environment for aquatic nuisance plants to survive.); and

• After the engine stops, pull plants out of the steering nozzle. Inspect your trailer and any other sporting equipment for fragments of aquatic plants, and remove them before you leave the access area.

After trailering and before re-use—

• Wash and dry your watercraft and equipment to kill or remove harmful species that you did not see at the boat launch. You can do this on your way home or once you arrive home. Choose one of the following methods of disinfection before transporting to another waterbody:

(1) Rinse your watercraft and other equipment with hot (greater than 40 °C or 104 °F) tap water.

(2) Spray your watercraft and trailer with high-pressure water.

(3) Dry your watercraft and equipment for at least 5 days.

Dated: December 19, 2000.
R.C. North,
U.S. Coast Guard, Assistant Commandant for Marine, Safety and Environmental Protection.

[FR Doc. 00-33076 Filed 12-27-00; 8:45 am]

BILLING CODE 4910-15-P